DEPARTMENT OF COMMERCE

International Trade Administration

[A-533-912]

Certain Non-Refillable Steel Cylinders From India: Postponement of Preliminary Determination in the Less-Than-Fair-Value Investigation

AGENCY: Enforcement and Compliance, International Trade Administration, Department of Commerce.

DATES: Applicable September 13, 2023.

FOR FURTHER INFORMATION CONTACT: Benito Ballesteros or Samuel Evans, AD/CVD Operations, Office IX, Enforcement and Compliance, International Trade Administration, U.S. Department of Commerce, 1401 Constitution Avenue NW, Washington, DC 20230; telephone: (202) 482-7425 or (202) 482-2420, respectively.

SUPPLEMENTARY INFORMATION:

Background

On May 17, 2023, the U.S. Department of Commerce (Commerce) initiated a less-than-fair-value (LTFV) investigation of imports of certain non-refillable steel cylinders from India.¹ Currently, the preliminary determination is due no later than October 4, 2023.

¹ See Certain Non-Refillable Steel Cylinders from India: Initiation of Less-Than Fair-Value Investigation, 88 FR 33571 (May 24, 2023) (Initiation Notice).

Postponement of Preliminary Determination

Section 733(b)(1)(A) of the Tariff Act of 1930, as amended (the Act), requires Commerce to issue the preliminary determination in an LTFV investigation within 140 days after the date on which Commerce initiated the investigation. However, section 733(c)(1) of the Act permits Commerce to postpone the preliminary determination until no later than 190 days after the date on which Commerce initiated the investigation if: (A) the petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

On September 6, 2023, the petitioner submitted a timely request that Commerce postpone the preliminary determination in the LTFV investigation, in accordance with 19 CFR 351.205(b)(2), which the petitioner notes allows for the extension of the preliminary determination at the petitioner's request.²

² See Petitioner's Letter, “Request to Extend the Preliminary Antidumping Duty Determination,” dated September 6, 2023. The petitioner is Worthington Industries.

For the reasons stated above and because there are no compelling reasons to deny the request, Commerce, in accordance with section 733(c)(1)(A) of the Act, is postponing the deadline for the preliminary determination by 50 days (i.e., 190 days after the date on which this investigation was initiated). As a result, Commerce will issue its preliminary determination no later than November 24, 2023.³ In accordance with section 735(a)(1) of the Act and 19 CFR 351.210(b)(1), the deadline for the final determination of this investigation will continue to be 75 days after the date of the preliminary determination, unless postponed.

³ Because the extended deadline for this preliminary determination falls on a Federal holiday (i.e., November 23, 2023), the deadline becomes the next business day. See Notice of Clarification: Application of “Next Business Day” Rule for Administrative Determination Deadlines Pursuant to the Tariff Act of 1930, As Amended, 70 FR 24533 (May 10, 2005).

This notice is issued and published pursuant to section 733(c)(2) of the Act and 19 CFR 351.205(f)(1).

Dated: September 7, 2023.
Lisa W. Wang,
Assistant Secretary for Enforcement and Compliance.

[FR Doc. 2023-19794 Filed 9-12-23; 8:45 am]

BILLING CODE 3510-DS-P